DEPARTMENT OF THE INTERIOR

National Park Service

Kaloko-Honokohau National Historical Park Advisory Commission; Notice of Meeting

Notice is hereby given in accordance with the Federal Advisory Committee Act that a meeting of the Na Hoapili O Kaloko Honokohau, Kaloko-Honokohau National Historical Park Advisory Commission will be held at 1:30 p.m., June 18, 2004 at King Kamehameha Beach Hotel, Honu Room, Kailua-Kona, Hawaii. The meeting will be preceded by a park visit beginning at 9 a.m. at Hale Ho'okipa.

The agenda will include Park and Commission History, Commission Charter and Responsibilities, Park Projects Updates, and Commissions Goals and Timelines.

The meeting is open to the public. Minutes will be recorded for documentation and transcribed for dissemination. Minutes of the meeting will be available to the public after approval of the full Advisory Commission. Transcripts will be available after 30 days of the meeting.

For copies of the minutes, contact Kaloko-Honokohau National Historical Park at (808) 329-6881.

Dated: April 16, 2004.
Geraldine K. Bell,
Superintendent, Kaloko-Honokohau National Historical Park.

[FR Doc. 04-12591 Filed 6-2-04; 8:45 am]

BILLING CODE 4312-6H-M